DEPARTMENT OF ENERGY

Federal Energy Regulatory Commission

[Docket No. EL05-98-000]

Vermont Electric Cooperative, Inc.; Notice of Institution of Investigation and Refund Effective Date

May 3, 2005.

On April 28, 2005, the Commission issued an order that initiated an investigation under section 206 of the Federal Power Act (FPA) concerning the continued justness and reasonableness of Vermont Electric Cooperative, Inc.'s (VEC) rate formulas, including VEC's continued use of a 21.5 percent fixed carrying charge in calculating formula rates under its OATT and Rate Schedule No. 4. Vermont Electric Cooperative, Inc., 111 FERC ¶ 61,127 (2005).

The refund effective date in Docket No. EL05-98-000, established pursuant to section 206(b) of the FPA, will be 60 days from the date of publication of this notice in the Federal Register.

Magalie R. Salas,
Secretary.

[FR Doc. E5-2248 Filed 5-9-05; 8:45 am]

BILLING CODE 6717-01-P